DEPARTMENT OF COMMERCE

National Oceanic and Atmospheric Administration

RIN 0648-XD313

Endangered and Threatened Species; Take of Anadromous Fish

AGENCY: National Marine Fisheries Service (NMFS), National Oceanic and Atmospheric Administration (NOAA), Commerce.

ACTION: Applications for two new scientific research permits.

SUMMARY: Notice is hereby given that NMFS has received two scientific research permit application requests relating to Pacific salmon and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on June 30, 2014.

ADDRESSES: Written comments on the application should be sent to the Protected Resources Division, NMFS, 1201 NE Lloyd Blvd., Suite 1100, Portland, OR 97232-1274. Comments may also be sent via fax to 503-230-5441 or by email to nmfs.nwr.apps@noaa.gov.

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): threatened Puget Sound (PS).

Steelhead (O. mykiss): threatened PS.

Chum salmon (O. Keta): threatened PS.

Eulachon (Thaleichthys pacificus): threatened Southern.

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 18792

The Wild Fish Conservancy (WFC) is seeking a five-year permit to annually take juvenile PS Chinook salmon and subadult PS steelhead. The WFC research may also cause them to take Southern eulachon, a species for which there are currently no ESA take prohibitions. The purpose of the study is to test native salmonids for pathogens transmitted from salmon in net pens in the Puget Sound. The research would benefit the affected species by (1) determining the direction and distance potential pathogen plumes could move and thereby help managers place net pens where they would do the least amount of harm to native fishes, and (2) identifying areas where such plumes may affect salmonids. Sampling would take place in two locations in Puget Sound: Clam Bay (South Puget Sound) and Deepwater Bay (Whidbey Basin). The WFC proposes to use beach seines to capture fish twice each month at multiple sites near both locations. The first ten juvenile coho, chum, pink, and hatchery Chinook captured during each sampling event would be killed and tissue samples (gill, kidney, heart) would be taken. Any remaining fish from each sample would be anesthetized, identified by species, measured, checked for sea lice, and released.

Permit 18819

The WFC is seeking a five-year permit to annually take juvenile and adult PS Chinook salmon, HCS chum salmon, and PS steelhead. The WFC research may also cause them to take Southern eulachon, a species for which there are currently no ESA take prohibitions. The purpose of the study is to determine the relative abundance, distribution, and emigration timing of juvenile chum salmon in the Hood Canal and tidally-influenced portions of its major tributaries. The research would benefit the affected species by determining juvenile salmonid out-migrant timing, use of nearshore rearing habitats, and key habitat associations (i.e. eelgrass and kelp beds, gravel beaches, mudflats, and modified vs. unmodified shorelines). Sampling would take place in 30 locations throughout Hood Canal. The WFC proposes to use fyke nets and beach seines to capture fish twice each month from December through May. The salmonids and steelhead would be identified by species and enumerated. A subset of all fish would also be measured, and tissue samples would be taken from the chum and wild Chinook salmon. Juvenile coded-wire tagged (CWT) coho and Chinook salmon would be sacrificed to determine their hatcheries of origin and to provide stock-specific information about how and where they use nearshore habitats. All other fish would be released after handling. The researchers do not propose to kill any other listed species being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 23, 2014.
Angela Somma,
Chief, Endangered Species Division, Office of Protected Resources, National Marine Fisheries Service.

[FR Doc. 2014-12459 Filed 5-28-14; 8:45 am]

BILLING CODE 3510-22-P